DEPARTMENT OF TRANSPORTATION

Office of the Secretary

Senior Executive Service Performance Review Boards Membership

AGENCY: Office of the Secretary, Department of Transportation (DOT).

ACTION: Notice of Performance Review Board (PRB) Appointments.

SUMMARY: DOT publishes the names of the persons selected to serve on the various Departmental PRBs as required by 5 U.S.C. 4314(c)(4).

FOR FURTHER INFORMATION CONTACT: Mari Barr Santangelo, Deputy Assistant Secretary for Administration, (202) 366-2332.

SUPPLEMENTARY INFORMATION: The persons named below have been selected to serve on one or more Departmental PRBs.

Issued in Washington, DC, on July 15, 2003.
Mari Barr Santangelo,
Deputy Assistant Secretary for Administration.

Federal Railroad Administration

Jane H. Bachner, Deputy Associate Administrator for Industry and Intermodal Policy, Federal Railroad Administration.

Mark Yachmetz, Associate Administrator for Railroad Development, Federal Railroad Administration.

Margaret Reid, Associate Administrator for Administration and Finance, Federal Railroad Administration.

Christopher W. Strobel, Assistant to the Secretary for Policy, Office of the Secretary.

Judy Kaleta, Senior Counsel for Dispute Resolution, Office of the Secretary.

Delmas Johnson, Associate Administrator for Administration, National Highway Traffic Safety Administration.

Jerry Hawkins, Director, Office of Human Resources, Federal Highway Administration.

Federal Transit Administration

Barbara A. Sisson, Associate Administrator for Research, Demonstration and Innovation, Federal Transit Administration.

Drucella A. Andersen, Deputy Assistant Administrator for Public Affairs, Federal Aviation Administration.

Thomas Herlihy, Assistant General Counsel for Legislation, Office of the Secretary.

Linda J. Washington, Deputy Assistant Secretary for Administration, Office of the Secretary.

Office of the Inspector General

Thomas J. Bondurant, Assistant Inspector General for Investigations, Department of Justice.

Michael Phelps, Deputy Assistant Inspector General for Auditing, Department of Housing and Urban Development.

Judith J. Gordon, Assistant Inspector General for Systems Evaluation, Department of Commerce.

Dennis Duquette, Deputy Inspector General for Audit Services, Department of Health and Human Services.

Adrienne Rish, Assistant Inspector General for Investigations, Agency for International Development.

Joseph R. Willever, Deputy Inspector General, Office of Personnel Management.

Elissa Karpf, Assistant Inspector General for Planning, Analysis, & Results, Environmental Protection Agency.

Gregory S. Seybold, Assistant Inspector General for Investigations, Department of Agriculture.

Carol L. Levy, Assistant Inspector General for Investigations, Defense Criminal Investigative Service.

National Highway Traffice Safety Administration

Marilena Amoni, Associate Administrator for Program Development and Delivery, National Highway Traffic Safety Administration.

Joseph Kanianthra, Associate Administrator for Applied Research, National Highway Traffic Safety Administration.

Noble Bowie, Director, Office of Planning and Consumer Standards, National Highway Traffic Safety Administration.

Susan McLaughlin, Director, Office of Communications and Consumer Information, National Highway Traffic Safety Administration.

Neil Eisner, Assistant General Counsel for Regulation and Enforcement, Office of the Secretary.

Federal Highway Administration

Arthur Hamilton, Associate Administrator for Federal Lands Highway, Federal Highway Administration.

Charles Nottingham, Associate Administrator for Policy, Federal Highway Administration.

Gene Fong, Director of Field Services—East, Federal Highway Administration.

Michael J. Vecchietti, Associate Administrator for Administration, Federal Highway Administration.

Charlotte Adams, Associate Administrator for Planning, Federal Transit Administration.

Kenneth Weinstein, Associate Administrator for Enforcement, National Highway Traffic Safety Administration.

Maritime Administration

Robert B. Ostrom, Chief Counsel, Maritime Administration.

Eileen Roberson, Associate Administrator for Administration, Maritime Administration.

James E. Caponiti, Associate Administrator for National Security, Maritime Administration.

Jean E. McKeever, Associate Administrator for Shipbuilding, Maritime Administration.

Jerry A. Hawkins, Director, Office of Human Resources, Federal Highway Administration.

Office of the Secretary, Bureau of Transportation Statistics

Sean M. Moss, Director, Office of Small and Disadvantaged Business Utilization, Office of the Secretary.

William J. Chang, Associate Director for Information Systems, Bureau of Transportation Statistics.

Phyllis F. Scheinberg, Deputy Assistant Secretary for Budget and Programs, Office of the Secretary.

Paul Gretch, Director, Office of International Aviation, Office of the Secretary.

Randall Bennett, Director, Office of Aviation and International Economics, Office of the Secretary.

Roberta D. Gabel, Assistant General Counsel for Environmental, Civil Rights, and General Law, Office of the Secretary.

Patricia A. Prosperi, Director, Office of Transportation and Facilities, Office of the Secretary.

Delmas Johnson, Associate Administrator for Administration, National Highway Traffic Safety Administration.

Jean E. McKeever, Associate Administrator for Shipbuilding, Maritime Administration.

Research and Special Programs Administration

Stacy L. Gerard, Associate Administrator for Pipeline Safety, Research and Special Programs Administration.

Sean M. Moss, Director, Office of Small and Disadvantaged Business Utilization, Office of the Secretary.

Patricia A. Prosperi, Director, Office of Transportation and Facilities, Office of the Secretary.

Roberta D. Gabel, Assistant General Counsel for Environmental, Civil Rights, and General Law, Office of the Secretary.

James J. Zok, Associate Administrator for Financial Approvals and Cargo Preference, Maritime Administration.

Federal Motor Carrier Safety Administration

Terry T. Shelton, Director, Office of Information Management, Federal Motor Carrier Safety Administration.

Brian McLaughlin, Senior Associate Administrator for Traffic Injury Control, National Highway Traffic Safety Administration.

Jackie Glassman, Chief Counsel, National Highway Traffic Safety Administration.

Marilena Amoni, Associate Administrator for Program Development and Delivery, National Highway Traffic Safety Administration.

Arthur Hamilton, Associate Administrator for Federal Lands Highway, Federal Highway Administration.

Bruce J. Carlton, Associate Administrator for Policy and International Trade, Maritime Administration.

[FR Doc. 03-18609 Filed 7-21-03; 8:45 am]

BILLING CODE 4910-62-P